NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by December 1, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant, Permit Application: 2015-012

Dr. Diana H. Wall, Natural Resource Ecology Lab, Dept. 1499, Colorado State University, Fort Collins, CO 80526-1499

Activity for Which Permit Is Requested: ASPA entry, Import. Applicant wishes to enter Cape Royds ASPA 121 to collect soil samples and associated invertebrates as well as benthic algal mats and underlying soil. This project follows up on several past surveys of orthinogenic soils conducted in this ASPA which examined invertebrate genetic distribution, and also explores the influence of climate change on soil invertebrate populations. The algae sampling is to also follow up on previous surveys, to examine the temporal stability of lake algal communities in the region. Soil samples of approximately 600 grams each would be collected at up to 30 sites within the ASPA using sterile collecting techniques. For benthic algae, at 6 sites along the shore of Poly Lake, the applicant and team would use a sanitized 2cm copper coring apparatus to collect, by hand, 4 replicates of surface algal mats and 1-2 cm of underlying sediment. Samples would be transported back to the US for further study.

Location: ASPA 121 Cape Royds.

Dates: January 1, 2015-February 15, 2015.

Nadene G. Kennedy,
Polar Coordination Specialist, Division of Polar Programs.

[FR Doc. 2014-25772 Filed 10-29-14; 8:45 am]

BILLING CODE 7555-01-P